Title 3—

The President

Proclamation 8306 of October 10, 2008

General Pulaski Memorial Day, 2008

By the President of the United States of America

A Proclamation

On General Pulaski Memorial Day, we celebrate General Casimir Pulaski's selfless dedication to the cause of freedom during the American Revolution.

In our Nation's struggle for independence, brave individuals such as Casimir Pulaski came to our shores and risked their lives to help bring liberty to a new continent. General Pulaski fought first against Russian domination of his Polish homeland and later joined General George Washington's Continental Army. Pulaski's valor in battle and love of freedom earned him the rank of Brigadier General and authority to organize an independent corps of cavalry. Through his skilled leadership and cavalry tactics he became known as the “Father of the American Cavalry.” During the siege of Savannah, General Pulaski was mortally wounded, making the ultimate sacrifice for our country and the cause of freedom.

General Pulaski's life exemplifies the courage and determination of the many Polish immigrants who have helped make the United States the greatest Nation on Earth. On General Pulaski Memorial Day, we recognize our time-honored friendship with Poland, and we are reminded of the great price our forefathers paid so that we might live in liberty.

NOW, THEREFORE, I, GEORGE W. BUSH, President of the United States of America, by virtue of the authority vested in me by the Constitution and laws of the United States, do hereby proclaim October 11, 2008, as General Pulaski Memorial Day. I urge Americans to commemorate this occasion with appropriate activities and ceremonies honoring General Casimir Pulaski and all those who defend our freedom.

IN WITNESS WHEREOF, I have hereunto set my hand this tenth day of October, in the year of our Lord two thousand eight, and of the Independence of the United States of America the two hundred and thirty-third.

[FR Doc. E8-24871

Filed 10-15-08; 1:15 pm]

Billing code 3195-W9-P